DEPARTMENT OF HEALTH AND HUMAN SERVICES

Administration for Children and Families

Submission for OMB Review; Data Collection for the Integrating Financial Capability and Employment Services Project (New Collection)

AGENCY: Office of Planning, Research, and Evaluation, Administration for Children and Families, HHS.

ACTION: Request for public comment.

SUMMARY: The Office of Planning, Research, and Evaluation (OPRE), Administration for Children and Families (ACF), U.S. Department of Health and Human Services (HHS), is proposing a data collection activity as part of the Integrating Financial Capability and Employment Services Project. The objective of this project is to better understand financial capability interventions offered in the context of delivering employment and training services for low-income adults. This descriptive study intends to use this information to build more evidence about the extent, forms, and practices of incorporating financial capability interventions into organizations delivering employment and training services for low-income adult populations, and to help establish a basis for future research and evaluation in this area. This project will focus on organizations delivering employment and training services that also offer financial capability services to low-income adults.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION:

Description: The objective of the Integrating Financial Capability and Employment Services Project is to better understand financial capability interventions offered in the context of delivering employment and training services for low-income adults. This descriptive study intends to use the information collected to build more evidence about the extent, forms, and practices of incorporating financial capability interventions into organizations delivering employment and training services for low-income adult populations, and to help establish a basis for future research and evaluation in this area. This project will focus on organizations delivering employment and training services that also offer financial capability services to low-income adults and will include:

• An online survey of organizations to document important factors driving the decision to incorporate financial capability services as well as key inputs, activities, and outputs involved in offering such services;

• phone interviews of administrators of organizations to gather qualitative information on how organizations implement financial capability across a variety of program types;

• virtual site visits to four organizations to collect in-depth qualitative information from multiple perspectives on notable models;

• interviews with participants to provide context on participants' perspectives on these services;

• interviews with employers offering financial capability services to collect qualitative information on the types of financial capability services delivered in the employer context; and

• focus groups with administrators of organizations to identify challenges integrating financial capability services into employment and training services.

Respondents: Individuals that are currently receiving or have received financial capability services; administrators, managers, and staff of employment and training programs; managers and staff of programs that partner with employment and training programs; and leadership at private employers.

Annual Burden Estimates
Instrument | Number of respondents (total over request period) | Number of responses per respondent (total over request period) | Average burden per response (in hours) | Total/annual burden (in hours)
Survey of Employment and Training Programs | 80 | 1 | .33 | 27
Phone Interviews | 15 | 1 | 1.5 | 23
Virtual Site Visit Interviews | 32 | 1 | 1.5 | 48
Participant Interviews | 16 | 1 | 1.5 | 24
Employer Interviews | 10 | 1 | 1 | 10
Program Administrator Focus Groups | 10 | 1 | 1.5 | 15

Estimated Total Annual Burden Hours: 147.

Authority: 42 U.S.C. 613.

Mary B. Jones,
ACF/OPRE Certifying Officer.

[FR Doc. 2021-23727 Filed 10-29-21; 8:45 am]

BILLING CODE 4184-09-P